ELECTION ASSISTANCE COMMISSION

Sunshine Act Notice

AGENCY: U.S. Election Assistance Commission.

ACTION: Public Meeting of the Technical Guidelines Development Committee.

SUMMARY: The Technical Guidelines Development Committee (TGDC) will meet in open session on Monday, February 8, 2016 and Tuesday, February 9, 2016 at the U.S. Access Board in Washington, DC.

DATES: The meeting will be held on Monday, February 8, 2016, from 8:30 a.m. until 5:00 p.m., Eastern time (estimated based on speed of business), and Tuesday, February 9, 2016 from 8:30 a.m. to 3:15 p.m., Eastern time (estimated based on speed of business).

ADDRESSES: The meeting will take place at the U.S. Access Board, 1331 F Street NW., Suite 800, Washington, DC 20004-1111; (202) 272-0080.

FOR FURTHER INFORMATION CONTACT: Patricia Wilburg, NIST Voting Program, Information Technology Laboratory, National Institute of Standards and Technology, 100 Bureau Drive, Stop 8970, Gaithersburg, MD 20899-8930, telephone: (301) 975-6994 or patricia.wilburg@nist.gov.

Agenda Information: Pursuant to the Federal Advisory Committee Act (FACA), 5 U.S.C.A. App. 2, notice is hereby given that the TGDC will meet Monday, February 8, 2016, from 8:30 a.m. until 5:00 p.m., Eastern time, and Tuesday, February 9, 2016 from 8:30 a.m. to 3:15 p.m., Eastern time. Discussions at the meeting will include the following topics: The Working Groups Activities since the July TGDC Meeting that include Pre-Election, Election and Post-Election; The Constituency Groups Activities since the July TGDC Meeting that include Cyber Security, Human Factors, Interoperability and Testing; the scope of the VVSG in terms of the definition of a voting system, Post-HAVA Voting System Requirements, Usability & Accessibility, and Security; the Standards & Testing Recommendations of the President's Commission on Election Administration (PCEA) and the Standards & Testing used within the Gaming industry; the Standards Setting and Certification Strategies; the Structuring of the Next Generation Guidelines (VVSG 1.1) that include Federal Requirements; State Requirements; and the Mapping State and Federal requirements. The full meeting agenda will be posted in advance at http://vote.nist.gov/. All sessions of this meeting will be open to the public.

The TGDC was established pursuant to 42 U.S.C 15361, to act in the public interest to assist the Executive Director of the Election Assistance Commission (EAC) in the development of voluntary voting system guidelines. Details regarding the TGDC's activities are available at http://vote.nist.gov/.

SUPPLEMENTARY INFORMATION: The general public, including those who do not attend the meeting, may submit written comments, which will be distributed to TGDC members. All comments will also be posted on http://vote.nist.gov/. For more information, please contact Patricia Wilburg. Patricia Wilburg's contact information is given in the FOR FURTHER INFORMATION CONTACT section above. Persons attending meetings in the Access Board's conference space are requested to refrain from using perfume, cologne, and other fragrances (see http://www.access-board.gov/the-board/policies/fragrance-free-environment for more information). If you are in need of a disability accommodation, such as the need for Sign Language Interpretation, please contact Patricia Wilburg, whose contact information is given in the FOR FURTHER INFORMATION CONTACT section above.

Bryan Whitener,
Director of Communications & Clearinghouse, U.S. Election Assistance Commission.

[FR Doc. 2016-01670 Filed 1-25-16; 8:45 am]

BILLING CODE 6820-KF-P